DEPARTMENT OF TRANSPORTATION

Federal Aviation Administration

Notice of Intent To Rule on Application 00-02-C-00-DEN To Impose and Use the Revenue From a Passenger Facility Charge (PFC) at Denver International Airport, Submitted by the City and County of Denver, Denver International Airport, Denver, CO

AGENCY: Federal Aviation Administration (FAA), DOT.

ACTION: Notice of intent to rule on application.

SUMMARY: The FAA proposes to rule and invites public comment on the application to impose and use PFC revenue at Denver International Airport under the provisions of 49 U.S.C. 40117 and Part 158 of the Federal Aviation Regulations (14 CFR part 158).

DATES: Comments must be received on or before December 4, 2000.

ADDRESSES: Comments on this application may be mailed or delivered in triplicate to the FAA at the following address: Mr. Alan Wiechmann, Manager; Denver Airports District Office, DEN-ADO; Federal Aviation Administration, 26805 E. 58th Avenue, Suite 224, Denver, Colorado 80249-6361.

In addition, one copy of any comments submitted to the FAA must be mailed or delivered to Mr. Bruce Baumgartner, Manager of Aviation, at the following address: Denver International Airport, Maintenance and Engineering Department, Airport Office Building, 10th Floor, 8500 Pena Boulevard, Denver, Colorado 80249-6340.

Air Carriers and foreign air carriers may submit copies of written comments previously provided to Denver International Airport, under section 158.23 of part 158.

FOR FURTHER INFORMATION CONTACT: Mr. Chris Schaffer, (303) 342-1258, Denver Airports District Office, DEN-ADO; Federal Aviation Administration, 26805 E. 68th Avenue, Suite 224, Denver, Colorado 80249-6361. The application may be reviewed in person at this same location.

SUPPLEMENTARY INFORMATION: The FAA proposes to rule and invites public comment on the application 00-02-C-00-DEN to impose and use PFC revenue at Denver International Airport, under the provisions of 49 U.S.C. 40117 and part 158 of the Federal Aviation Regulations (14 CFR part 158).

On October 20, 2000, the FAA determined that the application to impose and use the revenue from a PFC submitted by the City and County of Denver, Denver International Airport, Denver, Colorado, was substantially complete with the requirements of section 158.25 of part 158. The FAA will approve or disapproved the application, in whole or in part, no later than January 18, 2001.

The following is a brief overview of the application.

Level of the proposed PFC: $4.50.

Proposed charge-effective date: April 1, 2001.

Proposed charge-expiration date: October 31, 2008.

Total requested for approval: $223,572,000.

Brief description of proposed project: Impose and use: Runway 16R/34L completion; Industrial waste containment facilities; AGTS maintenance facility expansion; Construction of taxiway “EA”; Terminal mod 3E build-out—Public and non-exclusive systems; Construction of C-2 deicing pad; Impose only: Industrial waste management system—cargo area connection; Taxiway “L” (AA-EE) grading, paving, lighting and marking; CTAS center-terminal automated system; Concourse “A” east deicing/penalty box; Concourse “A” expansion—public areas; Common use terminal equipment; AGTS—new cars; Six additional gates.

Class or classes of air carriers which the public agency has requested not be required to collect PFC's: Dedicated air ambulance services.

Any person may inspect the application in person at the FAA office listed above under FOR FURTHER INFORMATION CONTACT and at the FAA Regional Airports Office located at: Federal Aviation Administration, Northwest Mountain Region, Airports Division, ANM-600, 1601 Lind Avenue, SW., Suite 315, Renton, WA 98055-4056.

In addition, any person may, upon request, inspect the application, notice and other documents germane to the application in person at Denver International Airport.

Issued in Renton, Washington on October 20, 2000.
David A. Field,
Manager, Planning, Programming and Capacity Branch, Northwest Mountain Region.

[FR Doc. 00-28298 Filed 11-02-00; 8:45 am]

BILLING CODE 4910-13-M